DEPARTMENT OF COMMERCE

National Oceanic and Atmospheric Administration

Draft Revised Management Plan for the He`eia National Estuarine Research Reserve

AGENCY: Office for Coastal Management, National Ocean Service, National Oceanic and Atmospheric Administration, U.S. Department of Commerce.

ACTION: Request for comments on draft revised management plan.

SUMMARY: The National Oceanic and Atmospheric Administration (NOAA) is soliciting comments from the public regarding a proposed revision of the management plan for the He`eia National Estuarine Research Reserve. A management plan provides a framework for the direction and timing of a reserve's programs; allows reserve managers to assess a reserve's success in meeting its goals and to identify any necessary changes in direction; and is used to guide programmatic evaluations of the reserve. Plan revisions are required at least every five years. This revised plan is intended to replace the plan approved in 2016.

DATES: Comments must be received at the appropriate address (see ADDRESSES) on or before 30 days after the publication date of the Federal Register Notice.

ADDRESSES: The draft revised management plan can be downloaded or viewed at: https://heeianerr.org/request-for-comments-on-draft-revised-management-plan/. The document is also available by sending a written request to the point of contact identified below (see FOR FURTHER INFORMATION CONTACT).

You may submit comments by:

Electronic Submission: Submit all electronic public comments by email to jean.tanimoto@noaa.gov. Include “Comments on Draft He`eia National Estuarine Research Reserve Management Plan” in the subject line of the message.

FOR FURTHER INFORMATION CONTACT: Jean Tanimoto of NOAA's Office for Coastal Management by email at jean.tanimoto@noaa.gov, phone at (808) 725-5253, or mail—1845 Wasp Blvd., Bldg 176 Honolulu, HI 96816.

SUPPLEMENTARY INFORMATION: Pursuant to 15 CFR 921.33(c), a State must revise the management plan for the research reserve at least every five years. If approved by NOAA, the He`eia National Estuarine Research Reserve's revised plan will replace the plan previously approved in 2016.

A management plan outlines the reserve's strategic goals and objectives; administrative structure; programs for conducting research and monitoring, education, and training; programs that address resource protection and restoration; public access and visitor use plans; consideration for future land acquisition; and facility development.

This draft revised management plan is a minor update of the prior plan, and maintains a strong foundation that honors the past by using indigenous resource management practices to support the sustainable co-management of the He`eia estuary. Core to the plan is the ahupua`a—the Hawaiian conceptualization of community that extends from mountain to oceans; and `āina momona—using indigenous approaches to manage resources toward a state of sustainable abundance. Changes outlined in the plan relate to updated strategies and goals for the reserve's education, research, stewardship, and coastal training programs; staffing and organizational needs; and planned facilities and infrastructure development.

Since its designation in 2016, this reserve has supported community-led ahupua`a scale restoration in the He`eia estuary with the removal of 20 acres (80,000 square meters) of invasive mangroves and plants replacing them with native plant species; agroforestry and lo`i cultivation; produced publications on Native Hawaiian land and sea management practices; and restored the He`eia fishpond. As a newly established reserve, the reserve hired a staff team consisting of a reserve manager, research coordinator, education coordinator, coastal training program coordinator, and research technician. These staff play an important role in building community-supported education, research, stewardship, and training programming across the He`eia community. The reserve also installed and launched monitoring equipment across the ahupua`a to monitor water quality and abiotic and biotic features and changes related to sea level rise and coastal inundation; completed needs assessments for education and training needs in He`eia; and supported various graduate assistants, fellows, and research interns. The revised management plan, once approved, would serve as the guiding document for the 1,385-acre (5.6 square kilometers) research reserve for the next five years.

NOAA's Office for Coastal Management analyzes the environmental impacts of the proposed approval of this draft revised management plan in accordance with section 102(2)(C) of the National Environmental Policy Act of 1969, as amended, 42 U.S.C. 4332(2)(C), and the Council on Environmental Quality Regulations for Implementing the Procedural Provisions of NEPA (40 CFR 1500 through 1508). The public is invited to comment on the draft revised management plan. NOAA will take these comments into consideration in deciding whether to approve the draft revised management plan in whole or in part.

(Authority: 16 U.S.C. 1451 et seq.; 15 CFR 921.33)

Keelin S. Kuipers,
Deputy Director, Office for Coastal Management, National Ocean Service, National Oceanic and Atmospheric Administration.

[FR Doc. 2022-15709 Filed 7-21-22; 8:45 am]

BILLING CODE 3510-NK-P